DEPARTMENT OF COMMERCE

National Oceanic and Atmospheric Administration

[I.D. 081400F]

South Atlantic Fishery Management Council; Public Meeting

AGENCY: National Marine Fisheries Service (NMFS), National Oceanic and Atmospheric Administration (NOAA), Commerce.

ACTION: Notice of conference call.

SUMMARY: The South Atlantic Fishery Management Council will conduct a telephone conference call of the Bycatch Reduction Device (BRD) Advisory Panel to discuss the BRD Testing Protocol Manual. Conference stations will be established at NMFS Southeast Regional Office in St. Petersburg, FL, Georgia Department of Natural Resources in Brunswick, GA and at the South Atlantic Fishery Management Council (Council) office in Charleston, SC.

DATES: The telephone conference call is scheduled for September 5, 2000 at 10:00 a.m.

ADDRESSES: Conference station locations will be located at the following locations:

1. NMFS Southeast Regional Office at 9721 Executive Center Drive N., St. Petersburg, FL; telephone: (727) 570-5305;

2. Georgia Department of Natural Resources, Coastal Resources Division, One Conservation Way, Suite 300, Brunswick, GA; telephone: (912) 264-7218;

3. South Atlantic Council office, One Southpark Circle, Suite 306, Charleston, SC; telephone: (843) 571-4366.

FOR FURTHER INFORMATION CONTACT: Kim Iverson, Public Information Officer; telephone: (843) 571-4366; fax: (843) 769-4520; email: kim.iverson@noaa.gov.

SUPPLEMENTARY INFORMATION: Participants in the conference call will have an opportunity to comment on the latest version of the BRD Testing Protocol Manual that includes modifications suggested by the BRD Advisory Panel, NMFS and the Council. Copies of the BRD Testing Protocol Manual can be obtained by contacting the Council office (see ADDRESSES).

Although non-emergency issues not contained in this agenda may come before this group for discussion, in accordance with the Magnuson-Stevens Fishery Conservation and Management Act, those issues may not be the subject of formal action during this conference call. Action will be restricted to those issues specifically listed in this notice and any issues arising after publication of this notice that require emergency action under section 305(c) of the Magnuson-Stevens Act, provided the public has been notified of the Council's intent to take final action to address the emergency.

Special Accommodations

This conference call is physically accessible to people with disabilities. Requests for sign language interpretation or other auxiliary aids should be directed to the Council office (see ADDRESSES) by August 31, 2000.

Dated: August 15, 2000.
Richard W. Surdi,
Acting Director, Office of Sustainable Fisheries, National Marine Fisheries Service.

[FR Doc. 00-21226 Filed 8-18-00; 8:45 am]

BILLING CODE 3510-22-F